DEPARTMENT OF EDUCATION

Federal Pell Grant, Federal Perkins Loans, Federal Work-Study, Federal Supplemental Educational Opportunity Grant, Federal Family Education Loan, and William D. Ford Federal Direct Loan Programs

Correction

In notice document 02-13704 beginning on page 38079 in the issue of Friday, May 31, 2002, make the following correction:

On page 38080, in the table at the top of the page, under the heading Number in College--, in the third column, in the fourth line, “23,900 ” should read “23,990 ”.

[FR Doc. C2-13704 Filed 6-26-02; 8:45 am]

BILLING CODE 1505-01-D